ENVIRONMENTAL PROTECTION AGENCY

40 CFR Part 52

[EPA-R05-OAR-2008-0783; FRL-8971-9]

Approval and Promulgation of Air Quality Implementation Plans; Indiana

AGENCY: Environmental Protection Agency (EPA).

ACTION: Direct final rule.

SUMMARY: EPA is approving sulfur dioxide, particulate matter (PM), and nitrogen oxides emission limitations and related requirements for the Southern Indiana Gas and Electric Company's F.B. Culley Generating Station (Culley Station). Indiana requested a revision to its State Implementation Plan (SIP) on September 11, 2008. Most of the provisions to be added are contained in a Federal consent decree. In addition, Indiana has removed expired sulfur dioxide emission limits from its regulations. These requirements are consistent with section 110 of the Clean Air Act as revisions to the Indiana State Implementation Plan (SIP).

DATES: This direct final rule will be effective January 11, 2010, unless EPA receives adverse comments by December 10, 2009. If adverse comments are received, EPA will publish a timely withdrawal of the direct final rule in the Federal Register informing the public that the rule will not take effect.

ADDRESSES: Submit your comments, identified by Docket ID No. EPA-R05-OAR-2008-0783, by one of the following methods:

1. http://www.regulations.gov: Follow the on-line instructions for submitting comments.

2. E-mail: mooney.john@epa.gov.

3. Fax: (312) 692-2551.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2008-0783. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Matt Rau, Environmental Engineer, at (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. Background

II. What Is EPA Approving?

III. What Is EPA's Analysis of the Revisions?

IV. What Is the Environmental Effect of this Action?

V. What Action Is EPA Taking?

VI. Statutory and Executive Order Reviews

I. Background

Southern Indiana Gas and Electric Company (SIGECO) operates the Culley Station, a coal-fired power plant, in Warrick County, Indiana.¹ To resolve without litigation violations of Prevention of Significant Deterioration provisions, New Source Performance Standards, and the Indiana SIP, SIGECO agreed in a June 2003 Federal consent decree, to (among other things) install and operate sulfur dioxide, particulate matter, and nitrogen oxides control equipment and continuous emission monitoring systems (CEMS). See U.S. v. SIGECO, Civil Action number IP99-1692 C-M/F. Indiana has requested that these requirements for the Culley Station be incorporated into its SIP.² Culley Station Unit 1 permanently shut down on December 16, 2006.

¹ SIGECO is a wholly-owned subsidiary of Vectren Corporation.

² EPA is making no finding in this notice as to whether Indiana's submission constitutes SIGECO's compliance with any provision of the Consent Decree.

II. What Is EPA Approving?

EPA is approving revisions to the sulfur dioxide, PM, and nitrogen oxide SIP for the Culley Station facility. Indiana has added: new PM requirements as 326 Indiana Administrative Code (IAC) 6-7-1; revised sulfur dioxide requirements to 326 IAC 7-4-10; and new nitrogen oxide limits as 326 IAC 10-6-1. This includes continuous monitoring for sulfur dioxide and nitrogen oxide emissions, added to 326 IAC 7-4-10 and 326 IAC 10-6-1, respectively.

Under 326 IAC 6-7-1, SIGECO must utilize an electrostatic precipitator (ESP) to control Unit 2 emissions and a baghouse to control Unit 3 emissions. Unit 3 must also meet a 0.015 pound per million BTUs PM limit.

Revised 326 IAC 7-4-10 requires SIGECO to improve its flue gas desulfurization (FGD) system to at least a 95 percent sulfur dioxide removal efficiency. The FGD must be operated whenever a unit burns coal. SIGECO must use a low sulfur content coal for Unit 2 should there be an unplanned FGD outage. Using low sulfur coal should help to minimize sulfur dioxide emissions until the FGD operation is restored. Indiana also removed from the rule alternative sulfur dioxide emissions scenarios that no longer apply.

Indiana added nitrogen oxides emission limits for Unit 3 as 326 IAC 10-6-1. Unit 3 must meet an emission limit of 0.100 pounds of nitrogen oxides per million BTUs. SIGECO is also required to operate selective catalytic reduction technology (SCR) whenever the unit operates.

In addition, Indiana removed expired sulfur dioxide emission limits for Warrick County in 326 IAC 7-4-10.

III. What Is EPA's Analysis of the Revisions?

The consent decree conditions and the corresponding Indiana rule incorporating the condition are summarized in Table 1.

Table 1
Applicable unit(s) | Consent decree provision | Indiana rule
1 | Re-power or retire Unit 1 (36) | Unit 1 permanently shut down.
3 | NOX: 0.100 lb/MMBTU ¹ (39) | 326 IAC 10-6-1 (1).
3 | NOX: requires SCR operation at all times (41) | 326 IAC 10-6-1 (2).
3 | NOX: use a CEMS to monitor (45) | 326 IAC 10-6-1 (3).
2, 3 | SO2: FGD- 95% efficiency ² (47) | 326 IAC 7-4-10 (a)(1)(E).
2, 3 | SO2: run FGD at all times(48) | 326 IAC 7-4-10 (a)(1)(F).
2, 3 | SO2: use compliance coal during unplanned FGD outage (49) | 326 IAC 7-4-10 (a)(1)(F).
2 | PM: run ESP at all times coal is burned (61) | 326 IAC 6-7-1 (2).
3 | PM: install baghouse, 0.015 lb/MMBTU limit (62) | 326 IAC 6-7-1 (1)(A).
3 | PM: operate baghouse at all times coal is burned(63) | 326 IAC 6-7-1 (1)(B).
3 | PM: use 40 CFR 60, Method 5 (65) | 326 IAC 6-7-1 (1)(C).
¹ 30-day rolling average emission rate.
² 30-day rolling average SO2 removal efficiency using CEMS data from the control device inlet and outlet.

The requirements in 326 IAC 6-7-1 and 326 IAC 10-6-1 for fine particulate matter and nitrogen oxides, respectively, are expected to reduce emissions and thus benefit air quality.

The current sulfur dioxide emission limits remain unchanged in this SIP revision. Indiana added the consent decree conditions requiring SIGECO to maintain a sulfur dioxide removal efficiency of at least ninety-five percent (30-day rolling average) from its control device to its SIP in 326 IAC 7-4-10 (a)(1)(E). In addition, SIGECO must operate the FGD, its sulfur dioxide control device, at all times coal is burned in the units. The removal efficiency standard and operating requirement for the FGD will help to minimize sulfur dioxide emissions. In addition to the control requirement revisions on SIGECO Culley, sulfur dioxide emission limits that are no longer pertinent were also removed.

The revisions to the Indiana rules adding the sulfur dioxide, particulate matter, and nitrogen oxides emission limitations for SIGECO Culley Indiana also removed expired sulfur dioxide emission limits from 326 IAC 7-4-10 leaving just the current emission limits which clarifies the rule. Therefore, EPA is approving the revisions to the Indiana SIP.

IV. What Is the Environmental Effect of This Action?

The revisions for SIGECO Culley strengthen the particulate matter, sulfur dioxide, and nitrogen oxides emission limits. Indiana expects a reduction in sulfur dioxide, nitrogen oxide, and particulate matter emissions from SIGECO Culley resulting from the revisions.

Sulfur dioxide in the atmosphere can aggravate respiratory and cardiovascular disease. Sulfur dioxide emissions also contribute to acid rain and fine particulate matter formation. Nitrogen oxides participate in atmospheric reactions forming fine particulate matter and ground level ozone.

In addition to the particulate precursor emission reductions from the more stringent rules, particulate matter emissions directly to the atmosphere are expected to be reduced by the control device upgrade and tightened emission limits at the Culley Station's Unit 3. Particulate matter in the atmosphere is known to harm health by decreasing lung function and aggravating respiratory ailments.

V. What Action Is EPA Taking?

EPA is approving revisions to the Indiana SIP submitted on September 11, 2008. The PM, sulfur dioxide, and nitrogen oxides emission limits and other control requirements for SIGECO's Culley Generating Station are more stringent than the previous applicable limits and should result in overall environmental improvement. Therefore, EPA is approving 326 IAC 6-7-1, 7-4-10, and 10-6-1 into the Indiana SIP.

We are publishing this action without prior proposal because we view this as a noncontroversial amendment and anticipate no adverse comments. However, in the proposed rules section of this Federal Register publication, we are publishing a separate document that will serve as the proposal to approve the State plan if relevant adverse written comments are filed. This rule will be effective January 11, 2010 without further notice unless we receive relevant adverse written comments by December 10, 2009. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective January 11, 2010.

VI. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 11, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Sulfur oxides.

Dated: October 13, 2009.
Walter W. Kovallivk Jr.,
Acting Regional Administrator, Region 5.

40 CFR part 52 is amended as follows:

PART 52—[AMENDED]

1. The authority citation for part 52 continues to read as follows:

Authority: 42 U.S.C. 7401 et seq.

Subpart P—Indiana

2. Section 52.770 is amended by adding paragraph (c)(190) to read as follows:

§ 52.770 Identification of plan.

* * * * *

(c) * * *

(190) On September 11, 2008, Indiana submitted a revision to its SIP. The revisions add particulate matter, sulfur dioxide, and nitrogen oxides control and emission limitations on the Southern Indiana Gas and Electric Company's F.B. Culley Generating Station, a power plant located in Warrick County, Indiana.

(i) Incorporation by reference.

(A) Indiana Administrative Code Title 326: Air Pollution Control Board, Article 6: Particulate Rules, Rule 7: Particulate Matter Emission Limitations for Southern Indiana Gas and Electric Company, Section 1: “Southern Indiana Gas and Electric Company (SIGECO)”; Article 7: Sulfur Dioxide Rules, Rule 4: Emission Limitations and Requirements by County, Section 10: “Warrick County sulfur dioxide emission limitations”; and Article 10: Nitrogen Oxides Rules, Rule 6: Nitrogen Oxides Emission Limitations for Southern Indiana Gas and Electric Company, Section 1: “Southern Indiana Gas and Electric Company (SIGECO)”.

Filed with the Secretary of State on July 31, 2008 and effective on August 30, 2008. Published in Indiana Register 326070309 on August 28, 2008, LSA Document #07-309(F).

[FR Doc. E9-26936 Filed 11-9-09; 8:45 am]

BILLING CODE 6560-50-P